DEPARTMENT OF EDUCATION

Capacity Building for Traditionally Underserved Populations

AGENCY: Office of Special Education and Rehabilitative Services, Department of Education.

ACTION: Notice of final priorities.

SUMMARY: The Assistant Secretary for the Office of Special Education and Rehabilitative Services announces priorities under the Capacity Building for Traditionally Underserved Populations program. The Assistant Secretary may use one or more of these priorities for competitions in fiscal year (FY) 2002 and in later years. We take this action to focus on meeting the needs of traditionally underserved populations. We intend these priorities to enhance the capacity and improve the participation of minority entities to compete for Rehabilitation Services Administration (RSA) discretionary grants and to improve services provided to minority people with disabilities under programs that are authorized under the Rehabilitation Act of 1973, as amended (Act).

EFFECTIVE DATE: These priorities are effective June 10, 2002.

FOR FURTHER INFORMATION CONTACT: Ellen Chesley, U.S. Department of Education, 400 Maryland Avenue, SW., room 3318, Switzer Building, Washington, DC 20202-2649 Telephone: (202) 205-9481 or via Internet: Ellen.Chesley@ed.gov

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION: Under section 21 of the Act, the Capacity Building for Traditionally Underserved Populations program is designed to support awards to minority entities and Indian tribes to provide training, technical assistance, or related activities to carry out certain programs authorized under the Act or to improve services under the Act. Section 21 of the Act also authorizes awards to eligible entities to enhance the capacity and increase the participation of minority entities and Indian tribes in activities funded under the Act. “Minority entity” is defined under section 21(b)(5) of the Act as a historically Black college or university, Hispanic-serving institution of higher education, American Indian tribal college or university, or another institution of higher education whose minority student enrollment is at least 50 percent.

Under section 21 of the Act, only three types of awards can be made as follows: (1) Section 21(b)(2)(A)—Making awards to minority entities and Indian tribes to carry out activities under programs authorized under titles II, III, VI, and VII of the Act. (2) Section 21(b)(2)(B)—Making awards to minority entities and Indian tribes to conduct research, training, technical assistance, or a related activity to improve services provided under the Act, especially services provided to individuals from minority backgrounds.

(3) Section 21(b)(2)(C)—Making awards to a State or a public or private nonprofit agency or organization, such as an institution of higher education or an Indian tribe, to provide outreach and technical assistance to minority entities and Indian tribes to promote their participation in activities funded under the Act, including assistance to enhance their capacity to carry out those activities.

We published a notice of proposed priorities for this program in the Federal Register on November 28, 2001 (66 FR 59526).

Except for editorial and technical revisions, there are no significant differences between the notice of proposed priorities and this notice of final priorities.

Analysis Of Comments and Changes

In response to our invitation in the notice of proposed priorities, 20 parties submitted comments on the proposed priorities. An analysis of the comments and of any changes in the priorities since publication of the notice of proposed priorities follows.

Generally, we do not address technical and other minor changes. Also, we may choose not to address suggested statutory changes that we are not authorized to make under the applicable statutory authority. Comments: Four commenters recommended that we include a priority similar to Proposed Priority 1 for Traumatic Brain Injury (TBI), because there is a need for services in this area. Further, they indicated that TBI is an underserved population that should be included as a minority entity. In addition, nine commenters recommended that Priority 4—Capacity Building for Minority Entities—should support not only minority institutions, but also agencies and organizations that are owned or controlled by minority individuals.

Discussion: We cannot consider these populations and entities as “minority entities” under the Act. Section 21 of the Act specifically defines “minority entity” as a historically Black college or university, Hispanic-serving institution of higher education, American Indian tribal college or university, or another institution of higher education whose minority student enrollment is at least 50 percent.

Changes: None.

Comments: Six commenters recommended that for Proposed Priority 3—Establishing New Rehabilitation Training Programs—we use the Higher Education Act of 1965, as amended (HEA) definition for a Hispanic-serving institution of higher education.

Discussion: The Department of Education uses the HEA definition of “Hispanic-serving institution of higher education.” The HEA definition applies to all priorities of the Act, not just Priority 3.

Changes: We've added a provision in the priorities section to clarify that all priorities should use the HEA definition of Hispanic-serving institution of higher education.

Comments: One commenter recommended that capacity building for minority entities be expanded to include other programs like special education and the 21st Century Learning Centers.

Discussion: Section 21(b)(2)(A) of the Act specifies that capacity building must be directed to promoting the participation of minority entities in activities funded under the Act. Thus, there is no authority to include programs, such as special education and the 21st Century Learning Centers, which are not activities funded under the Act.

Changes: None.

Note: This notice does not solicit applications. In any year in which we choose to use one or more of these priorities, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities: For purposes of these priorities, a “minority entity” includes a Hispanic-serving institution whose Hispanic student enrollment is 25 percent of the institution's student population.

Priority 1—Train Staff of the Independent Living Services for Older Individuals Who Are Blind Program

We will fund a project that meets this priority. The project funded must meet the requirements in section 21(b)(2)(B) of the Act. A project must provide training that would—

(1) Increase the capacity and skills of staff of federally funded independent living programs serving older blind minority consumers in networking towards building trust within racial and ethnic minority communities;

(2) Increase the ability of staff of federally funded independent living programs serving older blind racial and ethnic minority consumers to identify and build partnerships with key or specific organizations and resources that provide infrastructure supports and specialized services to racial and ethnic minority consumers and their families;

(3) Increase the skills and capacity of staff of federally funded independent living programs serving older blind racial and ethnic minority consumers to understand family and community values and traditions of aging racial and ethnic minority consumers that will lead to improved methods of effective communication and dissemination of information about independent living services and other related resources for aging individuals with visual disabilities.

A project must—

(1) Partner or collaborate with other key institutions and agencies that have expertise in this training, technical assistance, and networking area;

(2) Develop a regional training and technical assistance activity that will enhance and improve the knowledge and skills of staff of federally funded independent living programs (i.e., field professionals and direct service providers) serving older blind consumers and improve outreach to racial and ethnic minority consumers and communities to increase their involvement in the independent living program funded under the Act;

(3) Provide training and technical assistance based upon a needs assessment of the region or geographical area being assisted;

(4) Include an evaluation component based upon clear, specific performance and outcome measures; and

(5) Report the results of the evaluation in its annual performance report.

Training must focus on the following:

(1) Specific methods on how to integrate and build alliances with key organizations, institutions, and individuals within a community to reach older individuals who are blind from racial and ethnic minority backgrounds.

(2) Specific training on how to identify, develop, and evaluate appropriate mediums of communication in disseminating critical information about this program.

(3) Specific training on the definitions of blindness and disability in the context of racial and ethnic minority cultures and the attitudes associated with these terms.

(4) Specific training on the implication of health-related conditions associated with certain racial and ethnic minority groups (i.e., diabetic retinopathy, glaucoma, hypertension, etc.).

(5) Specific training on what are some of the “promising practices” that are currently being used to educate consumers from racial and ethnic minority groups about these medical conditions and their relationship to blindness.

Priority 2—Community Rehabilitation Programs

We will fund projects that meet the priority. Projects funded must meet the requirements in section 21(b)(2)(B) of the Act.

Projects must—

(1) Focus on referring more minorities currently served by community rehabilitation programs having service agreements, as well as those not having service agreements, to the vocational rehabilitation system;

(2) Target community rehabilitation programs serving large numbers of minorities with disabilities;

(3) Involve partnerships with community rehabilitation programs that serve significant numbers of minorities with disabilities;

(4) Provide training on diversity;

(5) Develop and conduct a survey that looks at why clients and consumers from minority backgrounds are reluctant to enter, remain in, or successfully exit the vocational rehabilitation program;

(6) Design and implement strategies that address the findings of the survey to increase the numbers of clients and consumers from minority backgrounds who successfully navigate through the vocational rehabilitation system;

(7) Identify effective practice models for service provision to unserved and underserved populations;

(8) Disseminate those models across the United States to community rehabilitation program sites used by minority persons with disabilities;

(9) Disseminate information about the vocational rehabilitation program and its potential benefits to minorities and other appropriate community agencies and organizations involved in community outreach activities;

(10) Enhance the capacity of clinics and outreach personnel to detect and respond to potential clients and consumers who are reluctant to enter the vocational rehabilitation system;

(11) Employ public relations and marketing strategies to highlight the vocational rehabilitation program in minority communities;

(12) Include an evaluation component based upon clear, specific performance and outcome measures; and

(13) Report the results of the evaluation in its annual performance report.

Priority 3—Establishing New Rehabilitation Training Programs

We will fund projects that meet the following priority. Projects funded must meet the requirements in section 21(b)(2)(B) of the Act.

Projects must—

(1) Enhance and increase the capacity of minority institutions of higher education to prepare more individuals for careers in the public vocational rehabilitation program, including individuals from minority backgrounds;

(2) Be located at minority institutions of higher education, including community colleges whose minority student enrollment is at least 50 percent, that are interested in establishing new first-time rehabilitation training programs at the associate degree, undergraduate degree, and graduate degree levels;

(3) Include an evaluation component based upon clear, specific performance and outcome measures; and

(4) Report the results of the evaluation in its annual performance report.

Priority 4—Capacity Building for Minority Entities

We will fund projects that meet the priority. Projects funded must meet the requirements in section 21(b)(2)(C) of the Act.

Projects must—

(1) Provide outreach, capacity building, and technical assistance to minority entities and Indian tribes to promote their participation in activities funded under the Act, including assistance to carry out those activities;

(2) Provide a variety of training and technical assistance activities, including grant writing workshops that focus on RSA and National Institute on Disability and Rehabilitation Research discretionary grant programs, the peer review process, selection criteria, training on disability legislation (i.e. Americans with Disabilities Act, Rehabilitation Act, etc.), and technical assistance to minority entities that are first-time recipients of grants funded under the Act in order to increase their ability to carry out their grants;

(3) Include an evaluation component based upon clear, specific performance and outcome measures; and

(4) Report the results of the evaluation in its annual performance report.

Intergovernmental Review

This program is subject to Executive order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number 84.315 Capacity Building for Traditionally Underserved Populations)

Program Authority: 29 U.S.C. 718b.

Dated: May 6, 2002.
Loretta L. Petty,
Acting Assistant Secretary for Special Education and Rehabilitative Services.

[FR Doc. 02-11645 Filed 5-8-02; 8:45 am]

BILLING CODE 4000-01-P